Title 3—

The President

Proclamation 10220 of June 1, 2021

Black Music Appreciation Month, 2021

By the President of the United States of America

A Proclamation

Throughout our history, there has been no richer influence on the American songbook than Black music and culture. From early spirituals born out of the unconscionable hardships of slavery; to the creation of folk and gospel; to the evolution of rhythm and blues and jazz; to the ascendance of rock and roll, rap, and hip-hop—Black music has shaped our society, entertained and inspired us, and helped write and tell the story of our Nation.

During Black Music Appreciation Month, we honor the innovative artists whose musical expressions move us, brighten our daily lives, and bring us together. Across the generations, Black music has pioneered the way we listen to music while preserving Black cultural traditions and sharing the unique experiences of the Black community. Black artists have dramatically influenced what we all hear and feel through music—joy and sadness, love and loss, pride and purpose.

Black music has always stood on its own—a beacon of resilience and resistance—while at the same time helping to shape countless other musical and cultural traditions. From the syncopated rhythms of jazz to the soulful expressions of R&B, Black music spans an extraordinarily broad spectrum of genres and styles. The distinct voices and instruments of Black artists have filled the halls of the Apollo Theater in New York City, Preservation Hall in New Orleans, the Fillmore in San Francisco, and other iconic venues throughout the United States and around the world, energizing audiences and inspiring millions. The music created and expressed by Black communities has paved the way for generations of musicians across all races, creeds, colors, religions, sexual orientations, and identities. The creativity and spirit of Black music is everywhere, and our Nation and the world are richer for it.

This month, we also honor the many important contributors to our Nation's musical heritage that are no longer with us. And although they have taken their final bows, their musical legacies and influence will live on in our hearts and souls, and inspire a new generation of artists and fans.

In appreciating the indelible contributions of Black Americans to the music landscape, we must also recognize the crisis of racial inequity that Black Americans have faced in America for centuries—a crisis that is often reflected and challenged in Black music. We must rededicate ourselves to rooting out systemic racism from every part of our society, and work together to advance racial justice and equity. In the music industry, that work includes identifying and eliminating barriers that Black creatives face in producing and maintaining ownership of their music and other creations. In this month of June, we celebrate the Black music that has shaped and enlivened our lives and our country, and recommit ourselves to advancing racial equity for artists—and for everyone.

NOW, THEREFORE, I, JOSEPH R. BIDEN JR., President of the United States of America, by virtue of the authority vested in me by the Constitution and the laws of the United States, do hereby proclaim June 2021 as Black Music Appreciation Month. I call upon public officials, educators, and all the people of the United States to observe this month with appropriate activities and programs that raise awareness and appreciation of Black music.

IN WITNESS WHEREOF, I have hereunto set my hand this first day of June, in the year of our Lord two thousand twenty-one, and of the Independence of the United States of America the two hundred and forty-fifth.

[FR Doc. 2021-11968

Filed 6-4-21; 8:45 am]

Billing code 3295-F1-P